DEPARTMENT OF THE TREASURY

Agency Information Collection Activities; Submission for OMB Review; Comment Request; Multiple Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 29, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Departmental Offices (DO)

1. Title: Solicitation of Proposal Information for Award of Public Contracts.

OMB Control Number: 1505-0081.

Type of Review: Extension without change of a currently approved collection.

Description: Information requested of offerors is specific to each procurement solicitation, and is required for Treasury to properly evaluate the capabilities and experience of potential contractors who desire to provide the supplies or services to be acquired. Evaluation will be used to determine which proposal most benefit the Government.

Form: None.

Affected Public: Businesses or other for-profits.

Estimated Number of Respondents: 23,781.

Frequency of Response: On occasion.

Estimated Total Number of Annual Responses: 23,781.

Estimated Time per Response: 9 hours.

Estimated Total Annual Burden Hours: 214,029.

2. Title: Treasury International Capital (TIC) Form D: Report of Holdings of, and Transactions in, Financial Derivatives Contracts with Foreign Residents.

OMB Control Number: 1505-0199.

Type of Review: Revision of a currently approved collection.

Description: Form D is required by law and is designed to collect timely information on International portfolio capital movements, including U.S. residents' holdings of, and transactions in, financial derivatives contracts with foreign residents. The information is used in the computation of the U.S. balance of payments accounts and international investments position, as well as in the formulation of U.S. International financial and monetary policies.

Form: TIC Form D.

Affected Public: Businesses or other for-profits.

Estimated Number of Respondents: 35.

Frequency of Response: Quarterly.

Estimated Total Number of Annual Responses: 140.

Estimated Time per Response: 30 hours.

Estimated Total Annual Burden Hours: 4,200.

3. Title: Determinations Regarding Certain Nonbank Financial Companies.

OMB Control Number: 1505-0244.

Type of Review: Extension without change of a currently approved collection.

Description: The information collected in § 1310.20 from state regulatory agencies will be used generally by FSOC to carry out its duties under Title I of the Dodd-Frank Act. The collections of information in §§ 1310.21 and 1310.22 provide an opportunity to request a hearing or submit written materials to the Council concerning whether, in the company's view, material financial distress at the company, or the nature, scope, size, scale, concentration, interconnectedness, or mix of the activities of the company, could pose a threat to the financial stability of the United States.

Form: None.

Affected Public: Businesses or other for-profits.

Estimated Number of Respondents: 1.

Frequency of Response: On occasion.

Estimated Total Number of Annual Responses: 1.

Estimated Time per Response: 20 hours.

Estimated Total Annual Burden Hours: 20.

Authority: 44 U.S.C. 3501 et seq.

Dated: October 24, 2018.
Spencer W. Clark,
Treasury PRA Clearance Officer.

[FR Doc. 2018-23610 Filed 10-29-18; 8:45 am]

BILLING CODE 4810-25-P